DEPARTMENT OF TRANSPORTATION

Federal Aviation Administration

[Docket No. FAA-2022-1203]

14 CFR Chapter I

Policy Regarding Processing Land Use Changes on Federally Acquired or Federally Conveyed Airport Land; Correction

AGENCY: Federal Aviation Administration (FAA), Department of Transportation (DOT).

ACTION: Notification of final policy; correction.

SUMMARY: The Federal Aviation Administration published a document in the Federal Register of December 8, 2023, concerning its Policy Regarding Processing Land Use Changes on Federally Acquired or Federally Conveyed Airport Land. The document contained an incorrect FAA Docket Number.

DATES: This correction is effective January 8, 2024.

FOR FURTHER INFORMATION CONTACT: Michael Helvey, Airport Compliance and Management Analysis, ACO-1, Federal Aviation Administration, 800 Independence Avenue SW, Washington, DC 20591, telephone (202) 267-3085; facsimile: (202) 267-4629.

SUPPLEMENTARY INFORMATION:

Correction

In the Federal Register of December 8, 2023, in FR Doc. 2023-27017, on page 85474, in the second column, correct the “Docket No.” to read:

[Docket No. FAA-2022-1203]

Dated: December 12, 2023.
Michael Helvey,
Director, Office of Airport Compliance and Management Analysis.

[FR Doc. 2023-27829 Filed 12-18-23; 8:45 am]

BILLING CODE 4910-13-P